DEPARTMENT OF DEFENSE

Department of the Army

Privacy Act of 1974; System of Records

AGENCY: Department of the Army, DoD.

ACTION: Notice to amend systems of records.

SUMMARY: The Department of the Army is amending two systems of records notices in its existing inventory of records systems subject to the Privacy Act of 1974, (5 U.S.C. 552a), as amended.

DATES: This proposed action will be effective without further notice on December 18, 2003, unless comments are received which result in a contrary determination.

ADDRESSES: Department of the Army, Freedom of Information/Privacy Act Office, U.S. Army Records Management and Declassification Agency, Attn: TAPC-PDD-FP, 7798 Cissna Road, Suite 205, Springfield, VA 22153-3166.

FOR FURTHER INFORMATION CONTACT: Ms. Janice Thornton at (703) 806-7137/DSN 656-7137.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: November 7, 2003.
Patricia L. Toppings,
Alternate OSD Federal Register Liaison Officer, Department of Defense.

A0001a TAPC

System name:

Office Visitor/Commercial Solicitor Files (February 22, 1993, 58 FR 10002).

Changes:

System identifier:

Delete entry and replace with ‘A0001a U.S. AHRC’.

* * * * *

Categories of records in the system:

Add to entry ‘Social Security Number’ and ‘and the results of a law enforcement records check.’

* * * * *

A0001a US AHRC

System name:

Office Visitor/Commercial Solicitor Files.

System location:

Segments may be maintained at Headquarters, Department of the Army, staff, field operating agencies, commands, installations, and activities. Official mailing addresses are published as an appendix to the Army’s compilation of systems of records notices.

Categories of individuals covered by the system:

Visitors to Army installations/activities and/or commercial solicitors who represent an individual, firm, corporation, academic institution, or other enterprise involved in official or business transactions with the Department of the Army and/or its elements.

Categories of records in the system:

Individual's name, Social Security Number, name and address of firm represented, person/office visited, purpose of visit, status of individual as regards past or present affiliation with the Department of Defense, and the results of a law enforcement records check.

Authority for maintenance of the system:

10 U.S.C. 3013, Secretary of the Army, Army Regulation 210, Commercial Solicitation on Army Installations; and E.O. 9397 (SSN).

Purpose(s):

To provide information to officials of the Army responsible for monitoring/controlling visitor's/solicitor's status and determining purpose of visit so as to preclude conflict of interest.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders.

Retrievability:

By name of visitor/solicitor.

Safeguards:

Records are maintained in file cabinets with access limited to officials having need therefore.

Retention and disposal:

Retained for one year after which records are destroyed.

System manager(s) and address:

Commander, United States Army Human Resources Command, 200 Stovall Street, Alexandria, VA 22332-0400.

Notification procedure:

Individuals seeking to determine if information about themselves is contained in this record system should address written inquiries to the commander/supervisor maintaining the information. Official mailing addresses are published as an appendix to the Army's compilation of systems of records notices.

Individual should provide the full name and other information verifiable from the record itself.

Record access procedures:

Individuals seeking access to records about themselves contained in this record system should address written inquiries to the commander/supervisor maintaining the information. Official mailing addresses are published as an appendix to the Army's compilation of systems of records notices.

Individual should provide the full name and other information verifiable from the record itself.

Contesting record procedures:

The Army's rules for accessing records, and for contesting contents and appealing initial agency determinations are contained in Army Regulation 340-21; 32 CFR part 505; or may be obtained from the system manager.

Record source categories:

From the individual.

Exemptions claimed for the system:

None.

A0601-222 USMEPCOM

System name:

Armed Services Military Accession Testing (September 8, 2003, 68 FR 52908).

Changes:

* * * * *

Categories of records in the system:

Add to the end of the entry ‘and test scores’.

* * * * *

Purpose(s):

Add a new sentence to the entry ‘The data is used on a continuing basis for the purpose of regeneration of scores and reclassification, score quality evaluation, and miscellaneous research activities.’

* * * * *

A0601-222 USMEPCOM

System name:

Armed Services Military Accession Testing.

System location:

U.S. Military Entrance Processing Command, 2834 Green Bay Road, North Chicago, IL 60064-3094.

Categories of individuals covered by the system:

Individuals who have been administered a version of the Armed Services Vocational Aptitude Battery (ASVAB), to include those who subsequently enlisted and those who did not. This applies to high school, college, National Civilian Community Corps, and vocational students who have participated in the DoD Student Testing Program (STP), as well as civilian applicants to the military services and active duty Service members.

Categories of records in the system:

Individual’s name, Social Security Number, address, telephone number, date of birth, sex, ethnic group identification, educational grade, rank, booklet number of ASVAB test, individual's plans after graduation, and individual item responses to ASVAB subtests, and test scores.

Authority for maintenance of the system:

10 U.S.C. 133, Under Secretary of Defense for Acquisition, Technology, and Logistics; 10 U.S.C. 3013, Secretary of the Army; Army Regulation 601-222, Armed Services Military Personnel Accession Testing Programs; and E.O. 9397 (SSN).

Purpose(s):

To establish eligibility for enlistment; verify enlistment and placement scores; verify retest eligibility; and provide aptitude test scores as an element of career guidance to participants in the DoD Student Testing Program. The data is also used for research, marketing evaluation, assessment of manpower trends and characteristics; and related statistical studies and reports. The data is used on a continuing basis for the purpose of regeneration of scores and reclassification, score quality evaluation, and miscellaneous research activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD ‘Blanket Routine Uses’ set forth at the beginning of the Army's compilation of systems of records notices also apply to this system.

Policies and practices for storing, retrieving, accessing, retaining, and disposing of records in the system:

Storage:

Computer magnetic tapes and electronic storage media.

Retrievability:

By individual's name and Social Security Number.

Safeguards:

Access to records is restricted to authorized personnel having an official need-to-know. Automated data systems are protected by user identification and manual controls.

Retention and disposal:

Disposition pending (until the National Archives and Records Administration has approved the disposition, treat records as permanent).

System manager(s) and address:

Commander, U.S. Military Entrance Processing Command, 2834 Green Bay Road, North Chicago, IL 60064-3094.

Notification procedure:

Individuals seeking to determine whether information about themselves is contained in this system should address written inquiries to the Commander, U.S. Military Entrance Processing Command, 2834 Green Bay Road, North Chicago, IL 60064-3094.

Individual should provide his/her full name, Social Security Number, date tested, address at the time of testing, and signature.

Record access procedures:

Individuals seeking access to information about them contained in this system should address written inquiries to the Commander, U.S. Military Entrance Processing Command, 2834 Green Bay Road, North Chicago, IL 60064-3094.

Individual should provide his/her full name, Social Security Number, date tested, address at the time of testing, and signature.

Contesting record procedures:

The Army's rules for accessing records, and for contesting contents and appealing initial agency determinations are contained in Army Regulation 340-21; 32 CFR part 505; or may be obtained from the system manager.

Record source categories:

From the individual and ASVAB tests.

Exemptions claimed for the system:

Testing or examination material used solely to determine individual qualifications for appointment or promotion in the Federal service may be exempt pursuant to 5 U.S.C. 552a(k)(6), if the disclosure would compromise the objectivity or fairness of the test or examination process.

An exemption rule for this system has been promulgated in accordance with requirements of 5 U.S.C. 553(b)(1), (2), and (3), (c), and (e) and published in 32 CFR part 505. For additional information contact the system manager.

[FR Doc. 03-28702 Filed 11-17-03; 8:45 am]

BILLING CODE 5001-06-P